DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before November 16, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on October 6, 2022.
Donald P. Burger,
Chief, General Approvals and Permits Branch.

Special Permits Data
Application No. | Applicant | Regulation(s) affected | Nature of the special permits thereof
21442-N | Cornerstone Architectural Products LLC | 172.200, 172.300, 172.400, 172.700(a), 173.185(b), 173.185(f) | To authorize the manufacture, mark, sale, and use of alternative packaging for the transportation of lithium batteries, including damaged, defective, and recalled lithium batteries, using alternative hazard communication. (modes 1, 2).
21443-N | Blue Canyon Technologies LLC | 173.301(a) | To authorize the transportation in commerce of non-DOT specification heat pipes containing anhydrous ammonia. (mode 1).
21447-N | Subctech Gmbh | 172.101(j), 173.185(a)(1), 173.185(e)(3) | To authorize the transportation in commerce of prototype lithium batteries exceeding 35 kg by cargo-only aircraft. (mode 4).
21448-N | ExxonMobil Chemical Company | 180.605(h)(3) | To authorize the transportation in commerce of portable tanks that have been pneumatically tested with nitrogen in lieu of hydrostatically tested with water. (modes 1, 3).
21455-N | Huntington Ingalls Incorporated | 172.102 | To authorize the transportation in commerce of radiation detectors that have not had a leak tightness test performed in accordance with special provision 238. (mode 1).
21457-N | Astra Space Operations, Inc | 173.302a(a)(1) | To authorize the transportation in commerce of non-DOT specification cylinders incorporated into a propellant management system within a satellite. (modes 1, 2, 3, 4).
21458-N | Astra Space Operations, Inc | 173.302a(a)(1) | To authorize the transportation in commerce of non-DOT specification cylinders incorporated into a propellant management system within a satellite. (modes 1, 2, 3, 4).

[FR Doc. 2022-22482 Filed 10-14-22; 8:45 am]

BILLING CODE P